FEDERAL COMMUNICATIONS COMMISSION

Open Commission Meeting, Thursday, November 17, 2016

November 10, 2016.

The Federal Communications Commission will hold an Open Meeting on the subjects listed below on Thursday, November 17, 2016 which is scheduled to commence at 10:30 a.m. in Room TW-C305, at 445 12th Street SW., Washington, DC.

Item No. | Bureau | Subject
1 | WIRELESS TELECOMMUNICATIONS | TITLE: Universal Service Reform—Mobility Fund (WT Docket No. 10-208); Connect America Fund (WC Docket No. 10-90); A National Broadband Plan for Out Future (GN Docket No. 09-51); Establishing Just and Reasonable Rates for Local Exchange Carriers (WC Docket No. 07-135); High-Cost Universal Service Support (WC Docket No. 05-337); Developing an Unified Intercarrier Compensation Regime (CC Docket No. 01-92); Federal-State Joint Board on Universal Service (CC Docket No. 96-45); Lifeline and Link-Up (WC Docket No. 03-109).
|  | SUMMARY: The Commission will consider a Report and Order that would adopt rules for the second phase of the Mobility Fund, which would provide ongoing universal service support dedicated to expanding the availability of mobile broadband networks.
2 | WIRELESS TELECOMMUNICATIONS | TITLE: Roaming Obligations of Commercial Mobile Service Providers and Regulatory Classification of Voice over LTE Service (WT Docket No. 16-356)
|  | SUMMARY: The Commission will consider a Notice of Proposed Rulemaking that would seek comment on proposals to implement a unified roaming standard and to classify Voice over LTE.
3 | WIRELINE COMPETITION | TITLE: Business Data Services in an Internet Protocol Environment (WC Docket No. 16-143); Investigation of Certain Price Cap Local Exchange Carrier Business Data Services Tariff Pricing Plans (WC Docket No. 15-247); Technology Transitions (GN Docket No. 13-5); Special Access for Price Cap Local Exchange Carriers (WC Docket No. 05-25); AT&T Corporation Petition for Rulemaking to Reform Regulation of Incumbent Local Exchange Carrier Rates for Interstate Special Access Services (RM-10593).
|  | SUMMARY: The Commission will consider a Report and Order and Second Further Notice of Proposed Rulemaking that would allow for light-touch regulation of packet-based Business Data Services and retain and update price cap regulation for lower-bandwidth TDM-based Business Data Services to ensure that lack of competition does not unfairly harm commercial customers or the consumers who rely upon these services.
4 | MEDIA | TITLE: Video Description: Implementation of the Twenty-First Century Communications and Video Accessibility Act of 2010 (MB Docket No. 11-43).
|  | SUMMARY: The Commission will consider a Report and Order which addresses the amount of video described programming required to be made available to consumers.

* * * * *

Consent Agenda

The Commission will consider the following subjects listed below as a consent agenda and these items will not be presented individually:

1 | ENFORCEMENT | TITLE: Enforcement Bureau Action. SUMMARY: The Commission will consider an enforcement action.
2 | GENERAL COUNSEL | TITLE: In the Matters of Lara V. Carlson on Request for Inspection of Records (FOIA Control No. 2015-601).
|  | SUMMARY: The Commission will consider a Memorandum Opinion and Order concerning Applications for Review filed by Lara Carlson which appealed a decision by the Wireline Competition Bureau addressing a Freedom of Information Act request.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2016-28000 Filed 11-21-16; 8:45 am]

BILLING CODE 6712-01-P